DEPARTMENT OF JUSTICE

Antitrust Division

Notice Pursuant to the National Cooperative Research and Production Act of 1993—Web Sling & Tie Down Association

Notice is hereby given that, on January 3, 2006, pursuant to Section 6(a) of the National Cooperative Research and Production Act of 1993, 15 U.S.C. 4301 et seq. (“the Act”), Web Sling & Tie Down Association (“WSTDA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Web Sling & Tie Down Association, Bel Air, MD. The nature and scope of WSTDA's standards development activities are: The development and promotion of voluntary recommended standards and associated reference materials for synthetic web slings and tie downs, polyester roundslings, synthetic webbing, fibers, thread and related components.

Additional information about WSTDA may be obtained by visiting its Web site http://www.wstda.com.

Dorothy B. Fountain,
Deputy Director of Operations, Antitrust Division.

[FR Doc. 06-1452 Filed 2-15-06; 8:45 am]

BILLING CODE 4419-11-M